DEPARTMENT OF JUSTICE

Notice of Lodging of Proposed Partial Consent Decree Under the Clean Water Act

On March 21, 2013, the Department of Justice lodged a proposed partial consent decree with the United States District Court for the District of Kansas in the lawsuit entitled United States v. Unified Government of Wyandotte County and Kansas City, Kansas, et al., Civil Action No. 13-02141-EFM-KGG.

The United States filed this Clean Water Act lawsuit on behalf of the United States Environmental Protection Agency. The complaint seeks injunctive relief and civil penalties for violations of the Clean Water Act in connection with the Unified Government's sewer and storm water systems. The proposed Partial Consent Decree will require the Unified Government to implement improved operation and maintenance programs for the sewer system, perform initial work over the next four years to address sewer overflows, develop a proposed overflow control plan for the sewer system by September 2016, and implement an improved Storm Water Management Plan for the storm water system. The partial settlement will not resolve the United States' claims for civil penalties or injunctive relief.

The publication of this notice opens a period for public comment on the Partial Consent Decree. Comments should be addressed to the Assistant Attorney General, Environment and Natural Resources Division, and should refer to United States v. Unified Government of Wyandotte County and Kansas City, Kansas, et al., D.J. Ref. No. 90-5-1-1-09463. All comments must be submitted no later than thirty (30) days after the publication date of this notice. Comments may be submitted either by email or by mail:

To submit comments: | Send them to:
By e-mail | pubcomment-ees.enrd@usdoj.gov.
By mail | Assistant Attorney General, U.S. DOJ-ENRD, P.O. Box 7611, Washington, DC 20044-7611.

During the public comment period, the Partial Consent Decree may be examined and downloaded at this Justice Department Web site: http://www.usdoj.gov/enrd/Consent_Decrees.html. We will provide a paper copy of the Partial Consent Decree upon written request and payment of reproduction costs. Please mail your request and payment to: Consent Decree Library, U.S. DOJ-ENRD, P.O. Box 7611, Washington, DC 20044-7611.

Please enclose a check or money order for $84.50 (25 cents per page reproduction cost) payable to the United States Treasury. For a paper copy without the exhibits and signature pages, the cost is $22.50.

Robert E. Maher, Jr.,
Assistant Section Chief, Environmental Enforcement Section, Environment and Natural Resources Division.

[FR Doc. 2013-06981 Filed 3-26-13; 8:45 am]

BILLING CODE 4410-15-P